DEPARTMENT OF STATE

[Public Notice 4027]

Bureau of Political-Military Affairs; 30-Day Notice of Information Collections

In the matter of: Form DS-2032, Statement of Registration (OMB No. 1405-0002); Form DSP-5, Application/License for Permanent Export of Unclassified Defense Articles and Related Unclassified Technical Data (OMB No. 1405-0003); Form DSP-61, Application/License for Temporary Import of Unclassified Defense Articles (OMB No. 1405-0013); Form DSP-73, Application/License for Temporary Export of Unclassified Defense Articles (OMB No. 1405-0023); Form DSP-85, Application/License for Permanent/Temporary Export or Temporary Import of Classified Defense Articles and Classified Technical Data (OMB No. 1405-0022); Form DSP-83, Non-Transfer and Use Certificate (OMB No. 1405-0021); Statement of Political Contributions, Fees, or Commissions in Connection with the Sale of Defense Articles or Services (OMB No. 1405-0025); Form DSP-119, Application for Amendment to License for Export or Import of Classified or Unclassified Defense Articles and Related Technical Data (OMB No. 1405-0092); Form DSP-94, Authority to Export Defense Articles and Services Sold under the Foreign Military Sales (FMS) Program (OMB No. 1405-0051); Request for Approval of Manufacturing License Agreements, Technical Assistance Agreements, and Other Agreements (OMB No. 1405-0093); Maintenance of Records by Registrants (OMB No. 1405-0111); Prior Approval for Brokering Activity (New Collection); and Brokering Activity Reports (New Collection).

ACTION: 30-Day Notice of Collections.

SUMMARY: The Department of State has submitted the following information collection request to the Office of Management and Budget (OMB) for approval in accordance with the Paperwork Reduction Act of 1995. Comments should be submitted to OMB within 30 days of the pubication of this notice.

The following summarizes the information collection proposals submitted to OMB:

Type of Request: Extension of Currently Approved Collection

Without Change.

Originating Office: Bureau of Political-Military Affairs, Office of Defense Trade Controls, PM/DTC.

Title of Information Collection: Statement of Registration.

Frequency: Every one to four years.

Form Number: DS-2032.

Respondents: Business and non-profit organizations.

Estimated Number of Respondents: 5,000.

Average Hours Per Response: 2 hours.

Total Estimated Burden: 10,000 hours.

(Total Estimated Burden based on number of forms received per year.)

Type of Request: Extension of Currently Approved Collection Without Change.

Originating Office: Bureau of Political-Military Affairs, Office of Defense Trade Controls, PM/DTC.

Title of Information Collection: Application/License for Permanent Export of Unclassified Defense Articles and Related Unclassified Technical Data.

Frequency: On occasion.

Form Number: DSP-5.

Respondents: Business and non-profit organizations.

Estimated Number of Respondents: 5,000.

Average Hours Per Response: 1 hour.

Total Estimated Burden: 30,000 hours.

(Total Estimated Burden based on number of forms received per year.)

Type of Request: Extension of Currently Approved Collection Without Change.

Originating Office: Bureau of Political-Military Affairs, Office of Defense Trade Controls, PM/DTC.

Title of Information Collection: Application/License for Temporary Import of Unclassified Defense Articles.

Frequency: On occasion.

Form Number: DSP-61.

Respondents: Business and non-profit organizations.

Estimated Number of Respondents: 1,000.

Average Hours Per Response: 30 minutes.

Total Estimated Burden: 500 hours.

(Total Estimated Burden based on number of forms received per year.)

Type of Request: Extension of Currently Approved Collection Without Change.

Originating Office: Bureau of Political-Military Affairs, Office of Defense Trade Controls, PM/DTC.

Title of Information Collection: Application/License for Temporary Export of Unclassified Defense Articles.

Frequency: On occasion.

Form Number: DSP-73.

Respondents: Business and non-profit organizations.

Estimated Number of Respondents: 2,500.

Average Hours Per Response: 1 hour.

Total Estimated Burden: 2,500 hours.

(Total Estimated Burden based on number of forms received per year.)

Type of Request: Extension of Currently Approved Collection Without Change.

Originating Office: Bureau of Political-Military Affairs, Office of Defense Trade Controls, PM/DTC.

Title of Information Collection: Application/License for Permanent/Temporary Export or Temporary Import of Classified Defense Articles and Classified Technical Data.

Frequency: On occasion.

Form Number: DSP-85.

Respondents: Business and non-profit organizations.

Estimated Number of Respondents: 250.

Average Hours Per Response: 1 hour.

Total Estimated Burden: 250 hours.

(Total Estimated Burden based on number of forms received per year.)

Type of Request: Extension of Currently Approved Collection Without Change.

Originating Office: Bureau of Political-Military Affairs, Office of Defense Trade Controls, PM/DTC.

Title of Information Collection: Non-Transfer and Use Certificate.

Frequency: On occasion.

Form Number: DSP-83.

Respondents: Business and non-profit organizations.

Estimated Number of Respondents: 4,500.

Average Hours Per Response: 1 hour.

Total Estimated Burden: 17,000 hours.

(Total Estimated Burden based on number of forms received per year.)

Type of Request: Extension of Currently Approved Collection Without Change.

Originating Office: Bureau of Political-Military Affairs, Office of Defense Trade Controls, PM/DTC.

Title of Information Collection: Statement of Political Contributions, Fees, or Commissions in Connection with the Sale of Defense Articles or Services.

Frequency: On occasion.

Form Number: none.

Respondents: Business organizations.

Estimated Number of Respondents: 4,500.

Average Hours Per Response: 1 hour.

Total Estimated Burden: 12,000 hours.

(Total Estimated Burden based on number of forms received per year.)

Type of Request: Extension of Currently Approved Collection Without Change.

Originating Office: Bureau of Political-Military Affairs, Office of Defense Trade Controls, PM/DTC.

Title of Information Collection: Application for Amendment to License for Export or Import of Classified or Unclassified Defense Articles and Related Technical Data.

Frequency: On occasion.

Form Number: DSP-119.

Respondents: Business and non-profit organizations.

Estimated Number of Respondents: 5,000.

Average Hours Per Response: 30 minutes.

Total Estimated Burden: 4,500 hours.

(Total Estimated Burden based on number of forms received per year.)

Type of Request: Extension of Currently Approved Collection Without Change.

Originating Office: Bureau of Political-Military Affairs, Office of Defense Trade Controls, PM/DTC.

Title of Information Collection: Authority to Export Defense Articles and Services Sold under the Foreign Military Sales (FMS) Program.

Frequency: On occasion.

Form Number: DSP-94.

Respondents: Business and foreign government representatives.

Estimated Number of Respondents: 2,500.

Average Hours Per Response: 30 minutes.

Total Estimated Burden: 1,250 hours.

(Total Estimated Burden based on number of forms received per year.)

Type of Request: Extension of Currently Approved Collection Without Change.

Originating Office: Bureau of Political-Military Affairs, Office of Defense Trade Controls, PM/DTC.

Title of Information Collection: Request for Approval of Manufacturing License Agreements, Technical Assistance Agreements, and Other Agreements.

Frequency: On occasion.

Form Number: none.

Respondents: Business organizations.

Estimated Number of Respondents: 5,000.

Average Hours Per Response: 2 hours.

Total Estimated Burden: 10,000 hours.

(Total Estimated Burden based on number of forms received per year.)

Type of Request: Extension of Currently Approved Collection Without Change.

Originating Office: Bureau of Political-Military Affairs, Office of Defense Trade Controls, PM/DTC.

Title of Information Collection: Maintenance of Records by Registrants.

Frequency: On occasion.

Form Number: none.

Respondents: Business organizations.

Estimated Number of Respondents: 5,000.

Average Hours Per Response: 20 hours per year.

Total Estimated Burden: 100,000 hours.

Type of Request: New Collection.

Originating Office: Bureau of Political-Military Affairs, Office of Defense Trade Controls, PM/DTC.

Title of Information Collection: Prior Approval for Brokering Activity.

Frequency: On occasion.

Form Number: none.

Respondents: Business organizations.

Estimated Number of Respondents: 30.

Average Hours Per Response: 2 hours.

Total Estimated Burden: 60 hours.

(Total Estimated Burden based on number of requests received per year.)

Type of Request: New Collection.

Originating Office: Bureau of Political-Military Affairs, Office of Defense Trade Controls, PM/DTC.

Title of Information Collection: Brokering Activity Reports.

Frequency: Annual.

Form Number: none.

Respondents: Business organizations.

Estimated Number of Respondents: 500.

Average Hours Per Response: 2 hours.

Total Estimated Burden: 1,000 hours.

(Total Estimated Burden based on number of forms received per year.)

Public comments are being solicited to permit the agency to:

• Evaluate whether the proposed collection od information is necessary for the proper performance of the functions of the agency, including whether the information will have practical utility.

• Evaluate the accuracy of the agency's estimate of the burden of the collection, including the validity of the methodology and assumptions used.

• Enhance the quality, utility, and clarity of the information to be collected.

• Minimize the reporting burden on those who are to respond, including through the use of automated collection techniques or other forms of technology.

For Additional Information: Copies of the proposed information collection and supporting documents may be obtained from William J. Lowell, Director, Office of Defense Trade Controls, Bureau of Political-Military Affairs, SA-1, Room 12th Floor, H1200, 2401 E Street, NW., Washington, DC 20522-0112 (202) 663-7000. Public comments and questions should be directed to the State Department Desk Officer, Office of Information and Regulatory Affairs, Office of Management and Budget (OMB), Washington, DC 20530, (202) 395-3897.

Dated: March 20, 2002.
Robert W. Maggi,
Acting Deputy Assistant Secretary for Security Operations, Bureau of Political-Military Affairs, Department of State.

[FR Doc. 02-13000 Filed 5-22-02; 8:45 am]

BILLING CODE 4710-25-P